DEPARTMENT OF HEALTH AND HUMAN SERVICES

National Institutes of Health

National Cancer Institute; Amended Notice of Meeting

Notice is hereby given of a change in the meeting of the NCI Special Emphasis Panel, Experimental Therapeutics Program (NExT), January 6, 2011, 8:30 a.m.-4:30 p.m., Doubletree Hotel Bethesda, 8120 Wisconsin Avenue, Rockville, MD 20852 which was published in the Federal Register on November 24, 2010, 75 FR 71712.

This notice is amending the location of the meeting from the Doubletree Hotel Bethesda, 8120 Wisconsin Avenue, Bethesda, MD 20814 to the Marriott North Conference Center, 5701 Marinelli Road, Rockville, MD 20852. The meeting is closed to the public.

Dated: December 13, 2010.
Jennifer Spaeth,
Director, Office of Federal Advisory Committee Policy.

[FR Doc. 2010-31739 Filed 12-16-10; 8:45 am]

BILLING CODE 4140-01-P